FEDERAL COMMUNICATIONS COMMISSION

47 CFR Part 73

[DA 08-1410; MB Docket Nos. 04-348, 04-407; RM-10718, RM-11153, RM-11154, RM-11106]

Radio Broadcasting Services; Bertram, Blanket, Burnet, Cherokee, Cross Plains, Granite Shoals, Junction, Kempner, and Llano, TX

AGENCY: Federal Communications Commission.

ACTION: Proposed rule; dismissal.

SUMMARY: The staff approves the withdrawal of three petitions for rulemaking filed by Charles Crawford and a counterproposal filed by Munbilla Broadcasting Properties, Ltd. in this consolidated FM allotment proceeding. See SUPPLEMENTARY INFORMATION.

FOR FURTHER INFORMATION CONTACT: Andrew J. Rhodes, Media Bureau, (202) 418-2180.

SUPPLEMENTARY INFORMATION: This is a synopsis of the Commission's Report and Order, MB Docket Nos. 04-348 and 04-407, adopted June 11, 2008, and released June 13, 2008. The full text of this Commission decision is available for inspection and copying during normal business hours in the FCC Reference Information Center (Room CY-A257), 445 12th Street, SW, Washington, DC 20554. The complete text of this decision may also be purchased from the Commission's copy contractor, Best Copy and Printing, Inc., Portals II, 445 12th Street, SW., Room CY-B402, Washington, DC 20554, telephone 1-800-378-3160 or http://www.BCPIWEB.com.

The withdrawal of these rulemaking petitions and counterproposal complies with Section 1.420(j) of the Commission's rules because the withdrawing parties are not receiving any money or other consideration in return for the withdrawals. See 69 FR 55547 (September 15, 2004) and 69 FR 67882 (November 22, 2004).

This document is not subject to the Congressional Review Act. (The Commission, is, therefore, not required to submit a copy of this Report and Order to GAO, pursuant to the Congressional Review Act, see 5 U.S.C. 801(a)(1)(A) because the petitions for rulemaking and counterproposal were dismissed).

List of Subjects in 47 CFR Part 73

Radio, Radio broadcasting.

Federal Communications Commission.
John A. Karousos,
Assistant Chief, Audio Division, Media Bureau.

[FR Doc. E8-14639 Filed 7-3-08; 8:45 am]

BILLING CODE 6712-01-P